DEPARTMENT OF DEFENSE

Office of the Secretary

[Docket ID: DoD-2015-OS-0035]

Privacy Act of 1974; System of Records

AGENCY: Office of the Secretary of Defense, DoD.

ACTION: Notice to add a new System of Records.

SUMMARY: The Office of the Secretary of Defense proposes to add a new system of records, DWHS P51, entitled “WHS DefenseReady” to its inventory of record systems subject to the Privacy Act of 1974, as amended.

The system will provide human resource information and system support for the OSD/WHS civilian and military workforce; and track the status of personnel actions, benefit queries, in-processing, out-processing, and military billets. This system will also manage civilian honorary and military award records along with tracking for the purpose of validation and analysis throughout the lifecycle. Records may also be used as a management tool for statistical analysis, reporting, evaluating program effectiveness, and conducting research.

DATES: Comments will be accepted on or before May 22, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on April 9, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 17, 2015.
Aaron Siegel,
Alternate OSD Federal Register Liaison Officer, Department of Defense.

DWHS P51

System name:

WHS DefenseReady

System location:

Washington Headquarters Services (WHS), Enterprise Information Technology Services Directorate, 1155 Defense Pentagon, Washington, DC 20301-1132.

Categories of individuals covered by the system:

DoD Military personnel, civilian employees, and applicants of the Office of the Secretary of Defense (OSD) serviced by WHS Human Resources Directorate.

Categories of records in the system:

Full name, home address, mailing address, hire date, disability, citizenship, main and alternate phone number, personal and work email address, component, and organizational unit.

Military:

Date of orders, Social Security Number (SSN), rank, date of rank, service skill, projected rotation date, date arrived to current duty station, unit, company, Service branch, projected arrival, projected departure, target departure date, effective date of separation, decorations and medals.

Civilians:

The DoD ID number, Senior Executive Service onboarding package to Director of Administration (DA) date, DA approval date, request to Office of Personnel Management (OPM) date, pay plan, grade, step, job title, benefits actions, award data, outgoing and incoming notification date, target departure date, letter of resignation date, effective date of separation, outgoing and incoming Request for Personnel Action number, position description number, drug test requested date, and drug test completed date.

Political appointees (Senate confirmed):

Political appointment type, SSN, Senate confirmed, intent to nominate date, nomination date, hearing scheduled date, senate confirmation date, Presidential Commission signed date, appointment date, target arrival date, arrival date, incoming RPA number, request received in Executive and Political Personnel (EPP) date, request to White House Liaison Office (WHLO) date, and WHLO approved date.

Applicants:

Projected arrival, applicant number, applicant source, applicant status, rejection reason, and Request for Personnel Action to fill the position.

Authority for maintenance of the system:

10 U.S.C. Chapter 113, Secretary of Defense; 10 U.S.C. 1125, Recognition for Accomplishment: Award of trophies; DoD Directive 5110.04, Washington Headquarters Services (WHS); DoD 1348.33-M, Manual of Military Decorations and Award; Administrative Instruction (AI) 29, Incentive and Honorary Awards Programs; AI 56, Management of Information Technology (IT) Enterprise Resources and Services for OSD, Washington Headquarters Services (WHS), and Pentagon Force Protection Agency (PFPA); and E.O. 9397 (SSN), as amended.

Purpose:

To provide human resource information and system support for the OSD/WHS civilian and military workforce; and to track the status of personnel actions, benefit queries, in-processing, out-processing, and military billets. This system will also manage civilian honorary and military award records along with tracking for the purpose of validation and analysis throughout the lifecycle. Records may also be used as a management tool for statistical analysis, reporting, evaluating program effectiveness, and conducting research.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

Law Enforcement Routine Use:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use:

A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use:

A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use:

Disclosure from a system of records maintained by a DoD Component may be made to a congressional office from the record of an individual in response to an inquiry from the congressional office made at the request of that individual.

Disclosure to the Office of Personnel Management Routine Use:

A record from a system of records subject to the Privacy Act and maintained by a DoD Component may be disclosed to the Office of Personnel Management (OPM) concerning information on pay and leave, benefits, retirement deduction, and any other information necessary for the OPM to carry out its legally authorized government-wide personnel management functions and studies.

Disclosure to the Department of Justice for Litigation Routine Use:

A record from a system of records maintained by a DoD Component may be disclosed as a routine use to any component of the Department of Justice for the purpose of representing the Department of Defense, or any officer, employee or member of the Department in pending or potential litigation to which the record is pertinent.

Disclosure of Information to the National Archives and Records Administration Routine Use:

A record from a system of records maintained by a DoD Component may be disclosed as a routine use to the National Archives and Records Administration for the purpose of records management inspections conducted under authority of 44 U.S.C. 2904 and 2906.

Disclosure to the Merit Systems Protection Board Routine Use:

A record from a system of records maintained by a DoD Component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Data Breach Remediation Purposes Routine Use:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx.

Policies and practices for storing, retrieving, accessing, safeguarding, retaining, and disposing of records in the system:

Storage:

Electronic storage media.

Retrievability:

Retrieved by full name and SSN or DoD ID number.

Safeguards:

Records are maintained in a controlled area accessible only to authorized personnel. Entry is restricted to personnel with a valid requirement and authorization to enter. Physical access is restricted by the use of locks, guards, and administrative procedures. Access to personally identifiable information is encrypted, role based and restricted to those who require the records in the performance of their official duties. Access is further restricted by the use of role-based access and Common Access Cards (CAC). All individuals granted access to this system must receive annual Information Assurance and Privacy Act training. Periodic security audits, regular monitoring of user's security practices and methods are applied to ensure only authorized personnel have access to records.

Retention and disposal:

TEMPORARY: Records are maintained for 5 years, then destroyed.

System manager(s) and address:

Program Manager, WHS DefenseReady, Washington Headquarters Services, Human Resources Directorate, 4800 Mark Center Drive, Alexandria, VA 22350-3200.

Notification procedure:

Individuals seeking to determine whether information about themselves is contained in this system should address written inquiries to WHS DefenseReady Program Manager, Transparency and Tools Division, Washington Headquarters Services, Human Resources Directorate, 4800 Mark Center Drive, Alexandria, VA 22350-3200.

Signed, written requests should include individual's full name, office name where they were assigned or affiliated.

Record access procedures:

Individuals seeking access to records about themselves contained in this system should address written inquiries to the Office of the Secretary of Defense/Joint Staff Freedom of Information Act Requester Service Center, 1155 Defense Pentagon, Washington, DC 20301-1155.

Signed, written requests should include the full name, the SSN or DoD ID number, and the name and number of this system of records notice.

Contesting record procedures:

The Office of the Secretary of Defense (OSD) rules for accessing records, for contesting contents, and appealing initial agency determinations are published in OSD Administrative Instruction 81; 32 CFR part 311; or may be obtained from the system manager.

Record source categories:

From the individual, Defense Enrollment Eligibility Reporting Systems (DEERS), Defense Civilian Personnel Data System (DCPDS), Identity Synchronization Service (IdSS), Military Personnel System (MILPERS), and Fourth Estate Manpower Tracking System (FMTS).

Exemptions claimed for the system:

None.

[FR Doc. 2015-09314 Filed 4-21-15; 8:45 am]

BILLING CODE 5001-06-P